DEPARTMENT OF DEFENSE

Department of the Army

Notice of Availability of the Record of Decision for the Disposition of Hangars 2 and 3, Fort Wainwright, Alaska

AGENCY: Department of the Army, DoD.

ACTION: Notice of availability.

SUMMARY: The Garrison Commander at Fort Wainwright, Alaska, has reviewed the Final Environmental Impact Statement (EIS) for the Disposition of Hangars 2 and 3 at Fort Wainwright, Alaska, and made the decision to proceed with the implementation of Alternative 1, Demolition of Hangars 2 and 3 (the selected alternative), which includes the demolition of both hangars and supporting infrastructure. Hangars 2 and 3 are World War II-era hangars and are contributing resources within the Ladd Field National Historic Landmark (NHL) and Ladd Air Force Base Cold War Historic District. Specific details of the decision are captured in the Army's Record of Decision (ROD) for this action. Both hangars no longer meet the functional requirements of maintenance facilities for the modern Army aircraft fleet, currently serve no active function, and are a safety hazard due to their compromised structural integrity. This alternative meets the Army's following objectives: (1) Eliminate fire and safety issues associated with Hangars 2 and 3; (2) eliminate non-mission essential funding expenditures; (3) make available the valuable airfield space the hangars occupy to support the military mission because the hangars no longer meet the functional requirements of maintenance facilities for modern aircraft and are unable to support the aviation mission; (4) meet the special requirements for NHLs under Section 110 of the National Historic Preservation Act (NHPA) and its implementing regulations (to the maximum extent possible, undertake such necessary planning and actions that minimize harm to NHLs); and (5) avoid, minimize, or otherwise mitigate any adverse effects on historic resources through Section 106 consultation under the NHPA.

ADDRESSES: Questions and requests for copies of either the ROD, Draft, or Final EIS should be forwarded to: Mr. Matthew Sprau, Directorate of Public Works, Attention: IMFW-PWE (Sprau), 1060 Gaffney Road #4500, Fort Wainwright, Alaska 99703-4500 or send email requests to: matthew.h.sprau.civ@mail.mil. Documents are also available for the public at http://www.wainwright.army.mil/env/Current.html.

FOR FURTHER INFORMATION CONTACT: Ms. Constance Storch, Public Affairs Office, IMFW-PAO (Storch), 1060 Gaffney Road #5900, Fort Wainwright, Alaska 99703-5900; telephone (907) 353-67801, email: constance.y.storch.civ@mail.mil.

SUPPLEMENTARY INFORMATION: The ROD incorporates analyses contained in the Final EIS for the Disposition of Hangars 2 and 3, including comments provided during the formal comment and review periods. The ROD discusses the alternatives and provides a discussion of environmental impacts and mitigation commitments the Army will implement as part of this decision.

The purpose of the Proposed Action was to determine a disposition for Hangars 2 and 3 that will resolve safety and fiscal concerns, as well as address the underutilization of the real property space they occupy. Determination of their disposition was needed to resolve their inability to meet the functional requirements as maintenance facilities for modern aircraft, their current condemned status that prevents them from serving an active military function at Fort Wainwright, and the safety hazard they present.

The Army considered a wide range of potential alternatives for the disposition of Hangars 2 and 3. The United States Army Garrison Fort Wainwright (USAG FWA) used a screening process to evaluate five action alternatives ranging from various reuses to demolition, eventually narrowing the list to those considered reasonable. The Final EIS evaluated the only reasonable action alternative (Alternative 1) and the No Action Alternative (Alternative 2).

Under Alternative 1 (selected alternative), demolition will involve removal of the hangars and their supporting infrastructure, including demolition of existing and abandoned utilities not belonging to Doyon Utilities (the current utility provider for the installation); demolition of existing privately owned vehicle parking areas, lighting, head bolt outlets, and power source; demolition of the small, open, flammable liquids storage facility that is located between Hangars 2 and 3; and removal of concrete building slabs and foundations. Once demolition of the hangars is complete, concrete will be added to the building and infrastructure footprints to maintain consistency with the adjacent airfield, which is designated as an aircraft parking apron.

Implementation of this decision is expected to result in direct, indirect, and cumulative impacts to the Fort Wainwright installation. Significant impacts are expected to occur as a result of adverse impacts to historic resources. All other impacts are expected to be not significant. The USAG FWA entered into a Memorandum of Agreement pursuant to 36 Code of Federal Regulations 800.6(2) with the Alaska Historic Preservation Office and the Advisory Council on Historic Preservation to mitigate adverse effects. Mitigation measures include public outreach in the pursuit of more visibility and appreciation for the Ladd Field NHL, re-evaluation of the NHL, and continued stewardship of Fort Wainwright's historical resources.

The selected alternative allows the Army to meet mission requirements while eliminating the potential safety hazard presented by Hangars 2 and 3. This decision provides the proper balance of technical and economic feasibility, environmental and social issues, and the ability to meet Army mission objectives.

A summary of environmental impacts and rationale for the decision can be found in the ROD, which is available along with the Final EIS for public review at http://www.wainwright.army.mil/env/Current.html.

Brenda S. Bowen,
Army Federal Register Liaison Officer.

[FR Doc. 2014-10019 Filed 5-1-14; 8:45 am]

BILLING CODE 3710-08-P